SECURITIES AND EXCHANGE COMMISSION

[File No. 500-1]

In the Matter of: Endeavor Power Corp.; Order of Suspension of Trading

March 8, 2013.

It appears to the Securities and Exchange Commission that there is a lack of current and accurate information concerning the securities of Endeavor Power Corp. (“Endeavor Power”), quoted under the ticker symbol EDVP, because of questions regarding the accuracy of assertions in Endeavor Power's public filings and press releases relating to, among other things, patents.

The Commission is of the opinion that the public interest and the protection of investors require a suspension of trading in the securities of the above-listed company.

Therefore, it is ordered, pursuant to Section 12(k) of the Securities Exchange Act of 1934, that trading in the securities of the above-listed company is suspended for the period from 9:30 a.m. EST on March 8, 2013 through 11:59 p.m. EDT on March 21, 2013.

By the Commission.
Lynn M. Powalski,
Deputy Secretary.

[FR Doc. 2013-05729 Filed 3-8-13; 11:15 am]

BILLING CODE P